DEPARTMENT OF HEALTH AND HUMAN SERVICES

National Institutes of Health

National Cancer Institute Amended Notice of Meeting

Notice is hereby given of a change in the meeting of the National Cancer Institute Special Emphasis Panel, March 28, 2013, 8:00 a.m. to March 28, 2013, 5:00 p.m., National Institutes of Health, 6116 Executive Boulevard, Room 507, Rockville, MD, 20852 which was published in the Federal Register on March 04, 2013, 78FR14099.

This notice is being amended to change the start time from 8:00 a.m. to 1:00 p.m. on March 28, 2013. The meeting is closed to the public.

Dated: March 8, 2013.
Melanie J. Gray,
Program Analyst, Office of Federal Advisory Committee Policy.

[FR Doc. 2013-05846 Filed 3-13-13; 8:45 am]

BILLING CODE 4140-01-P